DEPARTMENT OF THE INTERIOR

Bureau of Land Management

[WY070-00-1310-EJ]

Notice of Intent To Prepare an Environmental Impact Statement

AGENCY: Bureau of Land Management, Interior.

ACTION: Notice of intent to prepare an environmental impact statement for oil and gas development in the Powder River Basin, Wyoming, in Campbell, Sheridan, Johnson and the northern portion of Converse Counties.

SUMMARY: The Bureau of Land Management (BLM) under the National Environmental Policy Act (NEPA) must analyze the impacts of actions we permit on Federal lands and minerals. As part of this analysis, the cumulative affects of the proposed action and other activities occurring in the area must be considered. Two Environmental Assessments (EAs) (Gillette North, and Lower Prairie Dog Creek) and two Environmental Impact Statements (EISs) (Gillette South and WYODAK) to address proposed coalbed methane (CBM) development have been completed in the area. A third EA, the WYODAK drainage EA, is currently underway. When the WYODAK EIS was completed in November of 1999, it became apparent there was a demand to drill additional wells above the 5,890 analyzed.

Part of the new analysis will be to determine if the Buffalo Resource Management Plan needs to be updated in order to support continued development.

Our recent reasonable foreseeable development scenario indicates we could see an additional 30,000 CBM wells and 3,000 oil wells or more in the Powder River Basin between now and the year 2010 if development success continues as it has been. These numbers include development on all ownerships.

DATES: Comments to be considered in the draft EIS should be submitted by June 30, 2000. The draft EIS should be available for public review by April 15, of 2001.

ADDRESSES: Questions or concerns should be addressed to Paul Beels in the BLM Buffalo Field Office, 1425 Fort Street, Buffalo, WY 82834.

FOR FURTHER INFORMATION CONTACT: Paul Beels, phone 307-684-1100.

SUPPLEMENTARY INFORMATION: The following are some of the major issues raised during the preparation of the WYODAK CBM EIS and in addition, comments received for the WYODAK drainage EA. These issues are provided to help you understand what has occurred in past environmental documents and perhaps stimulate additional thoughts, questions, and issues.

• People were concerned with the loss of hydraulic head related to groundwater associated with the coal seam. Concerns related to lowering of water levels and increased pumping costs because water would have to be pumped from greater depths.

• Questions were posed on what effects the coalbed methane development would have on air quality. Of concern were possible hazardous emissions and pollutants released as a result of compressor emissions.

• Disposing water on the surface raised concerns about water quality due to possible increased erosion and effects on irrigated lands.

• There were concerns about potential for increased weed infestations.

• There were concerns about long-term affects resulting from depletion of groundwater.

• Concerns were raised regarding impacts to threatened and endangered species, grouse, and raptors.

• Gas venting from recently drilled wells was a concern.

• Noise from operation of compressors was a concern.

• Concern was expressed about the effects of surface disposal of water and operating a ranch with ongoing methane development operations.

Public scoping meetings will be held on June 6, 2000, at 7 p.m. at the Holiday Inn in Sheridan, Wyoming; June 7, 2000, at 7 p.m. at Colonel Bozeman's in Buffalo, Wyoming; June 8, 2000, at 7 p.m. at the Thunder Basin Hotel in Gillette, Wyoming; and June 12, 2000, at 7 p.m. at the Best Western in Douglas, Wyoming. The purpose of the meetings is to solicit comments regarding the proposal and answer questions about issues or concerns you may have. We will use the feedback in the preparation of the EIS.

Dated: June 14, 2000.
Alan R. Pierson,
State Director.

[FR Doc. 00-15582 Filed 6-20-00; 8:45 am]

BILLING CODE 4310-22-P